DEPARTMENT OF ENERGY

Federal Energy Regulatory Commission

[Docket No. RA16-3-000]

Avocent Corporation; Notice of Termination of Proceeding

On August 4, 2016, Avocent Corporation (Avocent) filed a Petition for Review of Denial of Adjustment Request, Request for Hearing, and Request for Confidential Treatment (Petition) under Subpart J of the Commission's Rules of Practice and Procedure.¹ Avocent's Petition alleged that the Department of Energy (DOE) Office of Hearings and Appeals (OHA) inappropriately denied Avocent's February 9, 2016 applications for various forms of relief from DOE energy conservation standards applicable to external power supplies.

¹ 18 CFR 385.1004 and 385.1006 (2017).

On March 23, 2017, the Administrative Law Judge designated to serve as the presiding officer, Judge David H. Coffman, issued a Report to the Commission and reported that on March 17, 2017, Avocent and DOE filed a Joint Notice of Satisfaction representing that OHA vacated its orders denying Avocent's applications for relief. Accordingly, consistent with the Proposed Settlement filed on February 6, 2017, the Judge deemed the Petition and Avocent's applications to OHA to be withdrawn.

Take notice that the proceeding in Docket No. RA16-3-000 is, as a consequence, deemed terminated.

Dated: April 6, 2018.
Kimberly D. Bose,
Secretary.

[FR Doc. 2018-07560 Filed 4-11-18; 8:45 am]

BILLING CODE 6717-01-P